DEPARTMENT OF HEALTH AND HUMAN SERVICES

Health Resources and Services Administration

National Vaccine Injury Compensation Program: Revised Amount of the Average Cost of a Health Insurance Policy

AGENCY: Health Resources and Services Administration (HRSA), Department of Health and Human Services (HHS).

ACTION: Notice.

SUMMARY: HRSA is publishing an updated monetary amount of the average cost of a health insurance policy as it relates to the National Vaccine Injury Compensation Program (VICP).

FOR FURTHER INFORMATION CONTACT: CAPT George Reed Grimes, Director, Division of Injury Compensation Programs, Health Systems Bureau, HRSA, HHS by mail at 5600 Fishers Lane, 08-W25A, Rockville, Maryland 20857; or call (301) 443-9350.

SUPPLEMENTARY INFORMATION: Section 100.2 of the VICP's implementing regulation (42 CFR part 100) states that the revised amount of an average cost of a health insurance policy, as determined by the Secretary of HHS (the Secretary), is effective upon its delivery by the Secretary to the United States Court of Federal Claims (the Court) and will be published periodically in a notice in the Federal Register. The Secretary delegated this responsibility to the Director of the Division of Injury Compensation Programs. This figure is calculated using the most recent Medical Expenditure Panel Survey-Insurance Component data available as the baseline for the average monthly cost of a health insurance policy. This baseline is adjusted by the annual percentage increase/decrease obtained from the most recent annual Kaiser Family Foundation Employer Health Benefits Survey.

In 2024, the Medical Expenditure Panel Survey-Insurance Component, available at www.meps.ahrq.gov, published the annual 2023 average total single premium per enrolled employee at private-sector establishments that provide health insurance. The figure published was $8,182. This figure is divided by 12 to determine the cost per month of $681.83. The $681.83 figure is increased or decreased by the percentage change reported by the most recent Kaiser Family Foundation Employer Health Benefits Survey, available at www.kff.org. The increase from 2023 to 2024 was six percent. By adding this percentage increase, the calculated average monthly cost of a health insurance policy for a 12-month period is $722.74.

Therefore, the Secretary announces that the revised average cost of a health insurance policy under the VICP is $722.74 per month. In accordance with § 100.2, the revised amount was effective upon its delivery by the Secretary to the Court. Such notice was delivered to the Court on January 7, 2025.

George Reed Grimes,
Director, Division of Injury Compensation Programs.

[FR Doc. 2025-09694 Filed 5-28-25; 8:45 am]

BILLING CODE 4165-15-P